DEPARTMENT OF JUSTICE

Notice of Lodging of Proposed Consent Decree Under the Comprehensive Environmental Response, Compensation and Liability Act

On December 31, 2014, the Department of Justice lodged a proposed Consent Decree with the United States District Court for the District of Nebraska in a lawsuit entitled United States v. Board of Regents of the University of Nebraska, Civil Action No. 8:14-cv-00422-JMG-CRZ.

The United States filed this lawsuit under the Comprehensive Environmental Response, Compensation, and Liability Act of 1980, (“CERCLA”), 42 U.S.C. 9606 and 9607(a). The United States' complaint names the Board of Regents of the University of Nebraska as defendants. The complaint requests an order requiring the University of Nebraska to perform specified remedial actions and seeks recovery of costs that the United States has incurred and will incur responding to releases and the threat of releases of hazardous substances at and from real property owned and operated by the University and comprising most of the Former Nebraska Ordnance Plant Superfund Site (“NOP” or the “Site”) located in Mead, Saunders County, Nebraska. The Defendant has signed the Consent Decree.

The publication of this notice opens a period for public comment on the Consent Decree. Comments should be addressed to the Assistant Attorney General, Environment and Natural Resources Division, and should refer to United States v. Board of Regents of the University of Nebraska, Civil Action No. 8:14-cv-00422-JMG-CRZ, DJ Ref. No. 90-11-2-07548/4.

All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $ 34.00 (25 cents per page reproduction cost) payable to the United States Treasury.

Susan M. Akers,
Assistant Section Chief, Environmental Enforcement Section, Environment and Natural Resources Division.

[FR Doc. 2015-00387 Filed 1-13-15; 8:45 am]

BILLING CODE 4410-15-P